DEPARTMENT OF ENERGY

Federal Energy Regulatory Commission

[Project No. 7320-042]

Erie Boulevard Hydropower, L.P.; Notice of Scoping Meetings and Environmental Site Review and Soliciting Scoping Comments

Take notice that the following hydroelectric applications have been filed with the Commission and are available for public inspection:

a. Type of Application: New Major License.

b. Project No.: 7320-042.

c. Date filed: July 1, 2013.

d. Applicant: Erie Boulevard Hydropower, L.P.

e. Name of Project: Chasm Hydroelectric Project.

f. Location: On the Salmon River, in Franklin County, New York. No federal lands are occupied by the project works or located within the project boundary.

g. Filed Pursuant to: Federal Power Act, 16 U.S.C. 791 (a)-825(r).

h. Applicant Contact: Steven Murphy, Compliance Specialist, Brookfield Renewable Power—New York West Operations, 33 West 1st Street South, Fulton, NY 13069; (315) 589-6130; email—steven.murphy@brookfieldpower.com.

i. FERC Contact: John Mudre at (202) 502-8902; or email at john.mudre@ferc.gov.

j. Deadline for filing scoping comments: January 6, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7320-042.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The existing Chasm Project consists of: (1) A 201-foot-long, 32-foot-high maximum height concrete gravity-type dam having a spillway section with crest elevation 1,283.8 feet mean sea level (msl) about 100 feet long, surmounted by 2-foot-high flashboards and having an intake section with steel trash racks and headgates; (2) a reservoir having a surface area of about 22 acres and a gross storage capacity of 74 acre-feet at normal pool elevation of 1,285.8 feet msl; (3) a 7-foot-diameter welded steel pipeline approximately 3,355 feet in length connecting to a 6-foot-diameter steel manifold pipeline just upstream of the powerhouse; (4) a powerhouse containing three Francis-type generating units having a total rated capacity of 3,350 kilowatts operated under a 268-foot head and at a flow of 195 cubic feet per second; (5) a 20-foot-wide, 850-foot-long tailrace; (6) 50-foot-long buried generator leads extending from the powerhouse to a non-project substation owned and operated by National Grid; and 7) appurtenant facilities.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

DATE: December 4, 2013.

TIME: 7:00 p.m.

PLACE: Holiday Inn Express Conference Room.

ADDRESS: 3351 State Route 11, Malone, New York.

Agency Scoping Meeting

DATE: December 5, 2013.

TIME: 10:00 a.m.

PLACE: Holiday Inn Express Conference Room.

ADDRESS: 3351 State Route 11, Malone, New York.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review beginning at 1:00 p.m. on December 5, 2013. All interested individuals, organizations, and agencies are invited to attend. All participants should meet in the lobby of the Holiday Inn Express, 3351 State Route 11, Malone, New York. All participants are responsible for their own transportation to the site. Anyone with questions about the Environmental Site Review should contact Mr. Steven Murphy at steven.murphy@brookfieldpower.com.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: November 5, 2013.
Kimberly D. Bose,
Secretary.

[FR Doc. 2013-27045 Filed 11-12-13; 8:45 am]

BILLING CODE 6717-01-P